DEPARTMENT OF JUSTICE

Notice of Lodging of Proposed Consent Decree Under the Clean Air Act

On May 17, 2023, the Department of Justice lodged a proposed Consent Decree with the United States District Court for the Northern District of Indiana in the lawsuit entitled United States v. BP Products North America, Case No. 2:23-cv-166.

The Complaint alleges that Defendant violated the National Air Emission Standards for Hazardous Air Pollutants for benzene waste operations, and the New Source Performance Standards for VOC emissions from refinery wastewater systems, as well as the general requirement to use good air pollution control practices at its refinery in Whiting, Indiana. The proposed Consent Decree resolves these claims and requires the Defendant to perform injunctive relief, including the installation of a permanent benzene stripper. Defendant will also spend $5 million to implement a supplemental environmental project intended to reduce diesel emissions in the surrounding communities. Defendant will pay a total financial penalty of $40 million, comprised of a $31,424,000 civil penalty and $8,576,000 in stipulated penalties for violations of an earlier consent decree.

The publication of this notice opens a period for public comment on the Consent Decree. Comments should be addressed to the Assistant Attorney General, Environment and Natural Resources Division, and should refer to United States v. BP Products North America, D.J. Ref. No. 90-5-2-1-09244/3. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $42 (25 cents per page reproduction cost) payable to the United States Treasury. For a paper copy without the exhibits and signature pages, the cost is $22.

Susan M. Akers,
Deputy Section Chief, Environmental Enforcement Section, Environment and Natural Resources Division.

[FR Doc. 2023-11042 Filed 5-23-23; 8:45 am]

BILLING CODE 4410-15-P